DEPARTMENT OF AGRICULTURE

Agricultural Marketing Service

7 CFR Part 51

[Doc. No. AMS-SC-21-0039, SC-21-327]

Revising U.S. Grade Standards for Pecans in the Shell and Shelled Pecans; Extension of Comment Period

AGENCY: Agricultural Marketing Service, Department of Agriculture (USDA).

ACTION: Notice; extension of comment period.

SUMMARY: Notice is hereby given that Agricultural Marketing Service (AMS) is extending the comment period for the proposed rule published in the Federal Register on June 1, 2022 by 30 days. The proposed rule invited comments on proposed revisions to U.S. Standards for Grades of Pecans in the Shell and U.S. Standards for Grades of Shelled Pecans.

DATES: Comments must be received by September 7, 2022.

ADDRESSES: Interested persons are invited to submit written comments to the USDA, Specialty Crops Inspection Division, 100 Riverside Parkway, Suite 101, Fredericksburg, VA 22406; via fax to (540) 361-1199; or, at https://www.regulations.gov. Comments should reference the date and page number of this issue of the Federal Register. Comments will be posted without change, including any personal information provided. All comments received within the comment period will become part of the public record maintained by the Agency and will be made available to the public via https://www.regulations.gov. Comments will be made available for public inspection at the above address during regular business hours or can be viewed at: https://www.regulations.gov.

FOR FURTHER INFORMATION CONTACT: Olivia Banks at the address above, or by phone (540) 361-1120; fax (540) 361-1199; or email Olivia.Banks@usda.gov. Copies of the proposed U.S Standards for Grades for Pecans in the Shell and U.S. Standards for Grades of Shelled Pecans are available at https://www.regulations.gov. Copies of the current standards are available at https://www.ams.usda.gov/nuts.

SUPPLEMENTARY INFORMATION: The proposed rule was published in the Federal Register of June 1, 2022, (87 FR 33064) inviting comments on proposed revisions to U.S. Standards for Grades of Pecans in the Shell and U.S. Standards for Grades of Shelled Pecans. The public was invited to review and comment on the proposed rule, which was to be accompanied by copies of the proposed standards, on https://www.regulations.gov. On June 28, 2022, AMS noted that the proposed U.S. Standards for Grades of Pecans in the Shell and the U.S. Standards for Grades of Shelled Pecans failed to upload to https://www.regulations.gov and the supporting documents were uploaded to https://www.regulations.gov on that date. To provide all interested persons a full 60-day comment period to view copies of the proposed standards and facilitate review of the proposed rule, AMS has extended the public comment period by 30 days to September 7, 2022. The 60-day comment period for the proposed rule published in the Federal Register on June 1, 2022 (87 FR 33064) ended on August 1, 2022.

Authority: 7 U.S.C. 1621-1627.

Erin Morris,
Associate Administrator, Agricultural Marketing Service.

[FR Doc. 2022-16873 Filed 8-5-22; 8:45 am]

BILLING CODE 3410-02-P